DEPARTMENT OF AGRICULTURE

Animal and Plant Health Inspection Service

9 CFR Part 2

[Docket No. 98-065-3]

Animal Welfare; Confiscation of Animals: Delay of Effective Date

AGENCY: Animal and Plant Health Inspection Service, USDA.

ACTION: Final Rule; Delay of Effective Date.

SUMMARY: In accordance with the memorandum of January 20, 2001, from the Assistant to the President and Chief of Staff, entitled “Regulatory Review Plan,” published in the Federal Register on January 24, 2001, this action temporarily delays for 60 days the effective date of the rule entitled Animal Welfare; Confiscation of Animals, published in the Federal Register on January 3, 2001, 66 FR 236. The rule amends the Animal Welfare regulations in 9 CFR part 2 to allow us to place animals confiscated form situations detrimental to the animals' health and well-being with a person or facility that is not licensed by or registered with the Animal and Plant Health Inspection Service, U.S. Department of Agriculture. To the extent that 5 U.S.C. section 553 applies to this action, it is exempt from notice and comment because it constitutes a rule of procedure 5 U.S.C. section 553(b)(A). Alternatively, the Department's implementation of this rule without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the Presidents' memorandum of January 20, 2001. Given the imminence of the effective date, seeking prior public comment on this temporary delay would have been impractical, as well as contrary to the public interest in the orderly promulgation and implementation of regulations. The imminence of the effective date is also good cause for making this rule effective immediately upon publication.

DATES: The effective date of the Animal Welfare; Confiscation of Animals regulation, published in the Federal Register on January 3, 2001 at 66 FR 236, is delayed for 60 days, form February 2, 2001 to a new effective date of April 3, 2001.

FOR FURTHER INFORMATION CONTACT: Dr. Jerry De Poyster at (301) 734-7586.

Dated: January 29, 2001.
Ann M. Veneman,
Secretary.

[FR Doc. 01-2867 Filed 2-1-01; 8:45 am]

BILLING CODE 3410-34-M